NATIONAL SCIENCE FOUNDATION

Advisory Committee for International Science and Engineering; Notice of Meeting

In accordance with the Federal Advisory Committee Act (Pub. L. 92-463, as amended), the National Science Foundation (NSF) announces the following meeting:

NAME AND COMMITTEE CODE: Advisory Committee for International Science and Engineering Meeting (#25104).

DATE AND TIME: January 26, 2018; 8:00 a.m. to 5:00 p.m.

PLACE: National Science Foundation, 2415 Eisenhower Avenue, Alexandria, Virginia 22314; 703-292-8710.

TYPE OF MEETING: Open.

CONTACT PERSON: Roxanne Nikolaus, Program Manager, National Science Foundation, 2415 Eisenhower Avenue, Alexandria, Virginia 22314; 703-292-8710.

PURPOSE OF MEETING: To provide advice, recommendations and counsel on major goals and policies pertaining to international programs and activities.

AGENDA:

• Update on Office of International Science and Engineering activities

• Strategic reviews of Directorate international collaboration

• Readout from December 4-6, 2017, Committee of Visitors

• Discussion of Environment and Security Joint Activities with the NSF Advisory Committee for Environmental Research and Education

• Preliminary overview of Subcommittee on International Collaboration report

• Meeting with NSF leadership

Dated: December 19, 2017.
Crystal Robinson,
Committee Management Officer.

[FR Doc. 2017-27588 Filed 12-21-17; 8:45 am]

BILLING CODE 7555-01-P